DEPARTMENT OF THE INTERIOR

Bureau of Reclamation

[RR04084000, XXXR4081X1, RN.20350010.REG0000]

Colorado River Basin Salinity Control Advisory Council Notice of Public Meeting

AGENCY: Bureau of Reclamation, Interior.

ACTION: Notice of public meeting.

SUMMARY: The Bureau of Reclamation is publishing this notice to announce that a Federal Advisory Committee meeting of the Colorado River Basin Salinity Control Council (Council) will take place.

DATES: The Council will convene on Wednesday, June 9, 2021, at 1:00 p.m. Mountain Standard Time and adjourn at approximately 4:00 p.m. The Council will reconvene on Thursday, June 10, 2021, at 9:00 a.m. Mountain Standard Time and adjourn at 11:00 a.m. A public comment period will be held on both days.

ADDRESSES: Due to restrictions put in place to address the COVID 19 pandemic the meeting will be a virtual meeting. For information about accessing the meeting you must contact Mr. Kib Jacobson; see FOR FURTHER INFORMATION CONTACT.

FOR FURTHER INFORMATION CONTACT: Kib Jacobson, telephone (801) 524-3753; email at kjacobson@usbr.gov.

SUPPLEMENTARY INFORMATION: The meeting of the Council is being held under the provisions of the Federal Advisory Committee Act of 1972. The Council was established by the Colorado River Basin Salinity Control Act of 1974 (Pub. L. 93-320) (Act) to receive reports and advise Federal agencies on implementing the Act.

Purpose of the Meeting: The purpose of the meeting is to discuss the accomplishments of Federal agencies and make recommendations on future activities to control salinity.

Agenda: Council members will be briefed on the status of salinity control activities and receive input for drafting the Council's annual report. The Bureau of Reclamation, Bureau of Land Management, U.S. Fish and Wildlife Service, and United States Geological Survey of the Department of the Interior; the Natural Resources Conservation Service of the Department of Agriculture; and the Environmental Protection Agency will each present a progress report and a schedule of activities on salinity control in the Colorado River Basin. The Council will discuss salinity control activities, the contents of the reports, and the Basin States Program created by Public Law 110-246, which amended the Act. A final agenda will be posted online at https://www.usbr.gov/uc/progact/salinity/ at least one week prior to the meeting.

Meeting Accessibility: The meeting is open to the public. Individuals wanting access to the virtual meeting should contact Mr. Kib Jacobson (see FOR FURTHER INFORMATION CONTACT) no later than June 8, 2021, to receive instructions.

Public Comments: The Council chairman will provide time for oral comments from members of the public at the meeting. Individuals wanting to make an oral comment should contact Mr. Kib Jacobson (see FOR FURTHER INFORMATION CONTACT) to be placed on the public comment list. Members of the public may also file written statements with the Council before, during, or up to 30 days after the meeting either in person or by mail. To allow full consideration of information by Council members at this meeting, written comments must be provided to Mr. Kib Jacobson (see FOR FURTHER INFORMATION CONTACT) by June 4, 2021.

Public Disclosure of Personal Information: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Wayne Pullan,
Regional Director, Upper Colorado Basin—Interior Region 7, Bureau of Reclamation.

[FR Doc. 2021-10501 Filed 5-18-21; 8:45 am]

BILLING CODE 4332-90-P